DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Uncompensated Services Assurance Report (OMB No. 0915-0077)—Revision

Under the Hill-Burton Act, the Government provides grants and loans for construction or renovation of health care facilities. As a condition of receiving this construction assistance, facilities are required to provide services to persons unable to pay. A condition of receiving this assistance requires facilities to provide assurances periodically that the required level of uncompensated care is being provided, and that certain notification and record keeping procedures are being followed. These requirements are referred to as the uncompensated services assurance.

Estimate of Information Collection Burden

Type of requirement and regulatory citation | Number of Responses | Responses per respondent | Total responses | Hours per response | Total hour burden
Disclosure Burden (42 CFR)
Published Notices (124.504(c)) | 206 | 1 | 206 | 0.17 | 35
Individual Notices (124.504(c)) | 206 | 1 | 206 | 35.5 | 7,313
Determinations of Eligibility (124.507) | 206 | 396 | 81,576 | 0.37 | 30,183
Subtotal Disclosure Burden |  |  |  |  | 37,531

Type of requirement and regulatory citation | Number of respondents | Responses per respondent | Total responses | Hours per response | Total hour burden
Reporting
Uncompensated Services Report—HRSA-710 Form (124.509(a)) | 10 | 1 | 10 | 11.0 | 110
Application for Compliance Alternatives:
Public Facilities (124.513) | 4 | 1 | 4 | 6.0 | 24
Small Obligation Facilities (124.514(c)) | 0 |  |  |  |
Charitable Facilities (124.516(c)) | 2 | 1 | 2 | 6.0 | 12
Annual Certification for Compliance Alternatives:
Public Facilities (124.509(b)) | 144 | 1 | 144 | 0.5 | 72
Charitable Facilities (124.509(b)) | 28 | 1 | 28 | 0.5 | 14
Small Obligation Facilities (124.509(c)) | 1 | 1 | 1 | 0.5 | 1
Complaint Information (124.511(a)):
Individuals | 10 | 1 | 10 | 0.25 | 3
Facilities | 10 | 1 | 10 | 0.5 | 5
Subtotal Reporting Burden |  |  |  |  | 241

Recordkeeping | Number of Recordkeepers | Hours per year | Total hour burden
Non-alternative Facilities (124.510(a)) | 206 | 50 | 10,300
Subtotal Recordkeeping Burden |  |  | 10,300

The total burden for this project is estimated to be 48,072 hours.

Written comments and recommendations concerning the proposed information collection should be sent within 30 days of this notice to: John Morrall, Human Resources and Housing Branch, Office of Management and Budget, New Executive Office Building, Room 10235, Washington, DC 20503.

Jane M. Harrison,
Director, Division of Policy Review and Coordination.

[FR Doc. 02-31929 Filed 12-18-02; 8:45 am]

BILLING CODE 4165-15-P